FEDERAL COMMUNICATIONS COMMISSION

Notice of Public Information Collection(s) Being Reviewed by the Federal Communications Commission for Extension Under Delegated Authority, Comments Requested

January 13, 2003.

SUMMARY: The Federal Communications Commission, as part of its continuing effort to reduce paperwork burden invites the general public and other Federal agencies to take this opportunity to comment on the following information collection(s), as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments March 24, 2003. If you anticipate that you will be submitting comments, but find it difficult to do so within the period of time allowed by this notice, you should advise the contact listed below as soon as possible.

ADDRESSES: Direct all comments to Judy Boley Herman, Federal Communications Commission, 445 12th Street, SW., Room 1-C804, Washington, DC 20554 or via the Internet to jboley@fcc.gov.

FOR FURTHER INFORMATION CONTACT: For additional information or copies of the information collections contact Judy Boley Herman at (202) 418-0214 or via the internet at jboley@fcc.gov.

SUPPLEMENTARY INFORMATION: OMB Control No.: 3060-0454.

Title: Regulation of International Accounting Rates.

Form No.: N/A.

Type of Review: Extension of a currently approved collection.

Respondents: Business or other for profit.

Number of Respondents: 20 respondents; 760 responses.

Estimated Time Per Response: 1 hour.

Frequency of Response: On occasion reporting requirement, third party disclosure requirement.

Total Annual Burden: 760 hours.

Annual Reporting and Recordkeeping Cost Burden: $6,000.

Needs and Uses: The information will be used by the FCC staff to monitor the international accounting rates of such carriers to ensure consistency with Commission policies and the public interest. The information also enables the Commission to preclude one-way bypass and to safeguard its international settlements policy. Carriers also use the information to monitor accounting and settlement rates for international telecommunications.

OMB Control No.: 3060-0751.

Title: Reports Concerning International Private Lines Interconnected to the U.S. Public Switched Network.

Form No.: N/A.

Type of Review: Extension of a currently approved collection.

Respondents: Business or other for-profit entities.

Number of Respondents: 10.

Estimated Time Per Response: 8 hours.

Frequency of Response: Annual reporting requirement.

Total Annual Burden: 80 hours.

Annual Reporting and Recordkeeping Cost Burden: N/A.

Needs and Uses: The filings will be used by the Commission in reviewing the impact, if any, that end-user private line interconnections have on U.S. international settlements policy. The data will also enhance the ability of both the Commission and interested parties to monitor for unauthorized resale of international private lines that are interconnected to the U.S. public switched network.

OMB Control No.: 3060-0768.

Title: 28 GHz Band Segmentation Plan Amending the Commission's Rules to Redesignate the 27.5-29.5 GHz Frequency Band, to Reallocate the 29.5-30.0 GHz Frequency Band, and to Establish Rules and Policies for Local Multipoint Distribution Services and for the Fixed Satellite Service.

Form No.: N/A.

Type of Review: Extension of a currently approved collection.

Respondents: Business or other for profit.

Number of Respondents: 15 respondents; 60 responses.

Estimated Time Per Response: 1.5 hours.

Frequency of Response: On occasion reporting requirement, third party disclosure requirement.

Total Annual Burden: 90 hours.

Annual Reporting and Recordkeeping Cost Burden: $18,000.

Needs and Uses: The various collections of information referenced in this OMB control number are contained in 47 CFR Parts 25 and 101 of the Commission's rules. The Commission uses the information in carrying out its duties as set forth in Sections 308 and 309 of the Communications Act of 1934, as amended. Specifically, the Commission and other applicants and/or licensees in the 28 GHz band use the information to determine the technical coordination of systems that are designed to share the same band segment in the 28 GHz frequency band.

OMB Control No.: 3060-0769.

Title: Aeronautical Services Transition Plan.

Form No.: N/A.

Type of Review: Extension of a currently approved collection.

Respondents: Business or other for profit.

Number of Respondents: 6.

Estimated Time Per Response: 2 hours.

Frequency of Response: On occasion reporting requirement, third party disclosure requirement.

Total Annual Burden: 24 hours.

Annual Reporting and Recordkeeping Cost Burden: $5,000.

Needs and Uses: Providers of interim domestic aeronautical mobile satellite services via Inmarsat are required to submit a transition plan outlining the transition from Inmarsat to the U.S. domestic licensee of these services. The transition plan is used to ensure continuity of service to domestic customers during the transition plan.

OMB Control No.: 3060-0916.

Title: 406 MHz Personal Locator Beacons (PLB).

Form No.: N/A.

Type of Review: Extension of a currently approved collection.

Respondents: Individuals or households, state, local or tribal government.

Number of Respondents: 1,050.

Estimated Time Per Response: .5 hours.

Frequency of Response: On occasion reporting requirement, third party disclosure requirement.

Total Annual Burden: 525 hours.

Annual Reporting and Recordkeeping Cost Burden: N/A.

Needs and Uses: The information collection is necessary to register data with the National Oceanic and Atmospheric Administration (NOAA) and will be used by search and rescue personnel to identify the person(s) in distress and to select the proper rescue units and search methods.

Federal Communications Commission.
Marlene H. Dortch,
Secretary.

[FR Doc. 03-1204 Filed 1-17-03; 8:45 am]

BILLING CODE 6712-01-P